DEPARTMENT OF LABOR

Office of the Secretary

Submission for OMB Review: Comment Request

January 6, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or email: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Part 46 Training Plans and Records.

OMB Number: 1219-0131.

Frequency: On occasion and Annually.

Type of Response: Recordkeeping; Reporting; and Third party disclosure.

Affected Public: Business or other for-profit.

Estimated Number of Respondents: 6,344.

Estimated Annual Responses: 1,097,794.

Estimated Average Response Time: Varies by task and mine size.

Estimated Annual Burden Hours: 299,419.

Total Annualized capital/startup costs: $0.

Total Annual Costs (operating/maintaining systems or purchasing services): $496,795.

Description: In order to help ensure safe and healthful working conditions, 30 CFR Part 46 requires mine operators to provide various types of training and maintain records pertaining to the training they provide to miners. More specifically, mine operators are required to perform the following tasks:

• Section 46.3—Develop and implement a written training plan.

• Section 46.5—Provide new miner training.

• Section 46.6—Provide newly hired experienced miner training.

• Section 46.7—Provide new task training.

• Section 46.8—Provide annual refresher training.

• Section 46.9—Maintain records of training.

• Section 46.11—Provide site-specific hazard awareness training.

Ira L. Mills,
Departmental Clearance Officer.

[FR Doc. E6-340 Filed 1-12-06; 8:45 am]

BILLING CODE 4510-43-P